DEPARTMENT OF ENERGY

Federal Energy Regulatory Commission

[Docket No. EL02-66-000]

Minnesota Municipal Power Agency v. Southern Minnesota Municipal Power Agency; Notice of Convening Conference

April 19, 2002.

Pursuant to Rule 601 of the Commission's rules of practice and procedure, 18 CFR 385.601, the Dispute Resolution Service will convene a Conference on Monday and Tuesday, April 29th and 30th, 2002, to discuss how Alternative Dispute Resolution processes and procedures may assist the participants in resolving disputes arising in the above-docketed proceeding. The conference will be held at the Ramada Inn, 494 & 24th Avenue, Bloomington, Minnesota (952)854-1771, beginning at 1:00 p.m. on April 29 and ending at approximately noon on April 30.

Steven A. Shapiro and Jerrilynne Purdy, acting for the Dispute Resolution Service, will convene the conference. They will be available to communicate in private with any participant prior to the conference. If a participant has any questions regarding the conference, please call Mr. Shapiro at 202/219-1154 or Ms. Purdy at 202/208-2232 or an e-mail to Steven.Shapiro@ferc.gov or Jerrilynne.Purdy@ferc.gov Parties may also communicate with Richard Miles, the Director of the Commission's Dispute Resolution Service at 1 877 FERC ADR (337-2237) or 202/208-0702 and his e-mail address is Richard.Miles@ferc.gov.

Magalie R. Salas,
Secretary.

[FR Doc. 02-10144 Filed 4-24-02; 8:45 am]

BILLING CODE 6717-01-P